DEPARTMENT OF TRANSPORTATION

Federal Aviation Administration

Notice of Submission Deadline for Schedule Information for Chicago O'Hare International Airport, John F. Kennedy International Airport, Los Angeles International Airport, Newark Liberty International Airport, and San Francisco International Airport for the Summer 2017 Scheduling Season

AGENCY: Department of Transportation, Federal Aviation Administration (FAA).

ACTION: Notice of submission deadline.

SUMMARY: Under this notice, the FAA announces the submission deadline of October 6, 2016, for summer 2017 flight schedules at Chicago O'Hare International Airport (ORD), John F. Kennedy International Airport (JFK), Los Angeles International Airport (LAX), Newark Liberty International Airport (EWR), and San Francisco International Airport (SFO), in accordance with the International Air Transport Association (IATA) Worldwide Slot Guidelines (WSG). The deadline coincides with the schedule submission deadline for the IATA Slot Conference for the summer 2017 scheduling season.

DATES: Schedules must be submitted no later than October 6, 2016.

ADDRESSES: Schedules may be submitted by mail to the Slot Administration Office, AGC-200, Office of the Chief Counsel, 800 Independence Avenue SW., Washington, DC 20591; facsimile: 202-267-7277; or by email to: 7-AWA-slotadmin@faa.gov.

FOR FURTHER INFORMATION CONTACT: Susan Pfingstler, System Operations Services, Air Traffic Organization, Federal Aviation Administration, 600 Independence Avenue SW., Washington, DC 20591; telephone number: 202-267-6462; email: susan.pfingstler@faa.gov.

SUPPLEMENTARY INFORMATION: The FAA has designated EWR, LAX, ORD, and SFO as IATA Level 2 airports and JFK as an IATA Level 3 airport. The FAA currently limits scheduled operations at JFK by Order until October 27, 2018.¹

¹ Operating Limitations at John F. Kennedy International Airport, 73 FR 3510 (Jan. 18, 2008) as amended 81 FR 32636 (May 24, 2016).

The FAA is primarily concerned about scheduled and other regularly conducted commercial operations during peak hours, but carriers may submit schedule plans for the entire day. At ORD, the peak hours are 0700 to 2100 Central Time (1200 to 0200 UTC), at LAX and SFO from 0600 to 2300 Pacific Time (1300 to 0600 UTC), and at EWR and JFK from 0600 to 2300 Eastern Time (1000 to 0300 UTC). Carriers should submit schedule information in sufficient detail, including, at minimum, the operating carrier, flight number, scheduled time of operation, frequency, and effective dates. IATA standard schedule information format and data elements (Standard Schedules Information Manual or SSIM, Chapter 6) may be used. The WSG provides additional information on schedule submissions and updates at Level 2 and Level 3 airports.

The U.S. summer scheduling season for these airports is from March 26 through October 28, 2017, in recognition of the IATA northern summer period. The FAA understands there may be differences in schedule times due to different U.S. daylight saving time dates and will accommodate these differences to the extent possible.

JFK will have construction in 2017 on Runway 4R/22L for rehabilitation of pavement, widening of certain taxiways, new high speed taxiways, drainage system upgrades, and electrical light systems replacement. The Port Authority of New York and New Jersey (PANYNJ), the airport operator, plans to conduct the construction in three phases in order to minimize operational impacts during the busiest summer months of June through August. Phase I anticipates a full closure of Runway 4R/22L, currently scheduled from February 27 to June 1, 2017. Phase II anticipates closures nightly from 0400 to 1100 UTC from June 1 to September 4, 2017, followed by Phase III with a full Runway 4R/22L closure planned from September 5 to November 17, 2017. The FAA and the PANYNJ are working together to minimize operational disruptions to the extent possible. The FAA is also continuing to review alternative runway configurations and procedures and modeling potential capacity and delay impacts. Regular meetings are conducted with the FAA, PANYNJ, and airline station and other staff, and may be the best source of project updates and impacts.

LAX will undergo construction on Runway 7L/25R for runway safety areas and rehabilitation in 2017. Los Angeles World Airports (LAWA), the airport operator, will close the runway for approximately four months from January to May 2017. The final dates have not been determined at this time. LAWA conducts monthly meetings on construction updates with FAA local air traffic control and airline representatives. Such meetings may be the best source of project updates and impacts.

The FAA will use hourly runway capacity throughput for the Level 2 airports in its schedule reviews, considering any differences associated with runway construction or other operational factors. The FAA will also review the operational performance metrics at the airports for the summer 2016 scheduling season as additional data become available.

EWR is transitioning from Level 3 limitations under the FAA Order to a Level 2 designation effective with the winter 2016 scheduling season.² In reviewing schedules, the FAA will consider the recent operational performance metrics, delay projections when the Level 3 scheduling limits were adopted in 2008, and the scheduled flight levels the FAA accepted under the 2008 Order. Based on current and projected demand for the summer 2017 scheduling season, the FAA anticipates the 0700 to 0859 and 1400-2059 Eastern Time (1100 to 1259 and 1800 to 0059 UTC) hours will be the highest demand periods and not all requests are likely to be accommodated during these times. Carriers should be prepared to adjust schedules to meet available capacity in order to minimize potential congestion and delay.

² Operating Limitations at Newark Liberty International Airport, 73 FR 29550 (May 21, 2008) as amended 79 FR 16857 (Mar. 26, 2014). Change in Newark Liberty International Airport Designation, 81 FR 19861 (April 6, 2016).

Each Level 2 airport also has a separate process adopted by the airport operator for certain types of flights, such as international passenger flights, or at particular terminals or gates. Those processes with the individual airports or terminals will continue separately from and in addition to the FAA review of schedules based on runway capacity. However, in conjunction with the schedule facilitators for terminal operations at those airports, the FAA may consider the need to harmonize terminal and runway availability in the schedule review process.

Issued in Washington, DC, on September 23, 2016.
Daniel E. Smiley,
Vice President, System Operations Services.

[FR Doc. 2016-23563 Filed 9-28-16; 8:45 am]

BILLING CODE 4910-13-P